FEDERAL COMMUNICATIONS COMMISSION

47 CFR Part 73

[DA 02-1038, MM Docket No. 01-56, RM-10033]

Digital Television Broadcast Service; Huntington, WV

AGENCY: Federal Communications Commission.

ACTION: Final rule.

SUMMARY: The Commission, at the request of SJL License Subsidiary, LLC, licensee of station WOWK-TV, substitutes DTV channel 47 for DTV channel 54 at Huntington, West Virginia. See 66 FR 12751, February 28, 2001. DTV channel 47 can be allotted to Huntington, West Virginia, in compliance with the principle community coverage requirements of § 73.625(a) at reference coordinates 38-30-21 N. and 82-12-33 W. with a power of 895, HAAT of 396 meters and with a DTV service population of 1063 thousand. Since the community of Huntington is located within 400 kilometers of the U.S.-Canadian border, concurrence from the Canadian government has been obtained for this allotment.

With this action, this proceeding is terminated.

DATES: Effective June 24, 2002.

FOR FURTHER INFORMATION CONTACT: Pam Blumenthal, Media Bureau, (202) 418-1600.

SUPPLEMENTARY INFORMATION: This is a synopsis of the Commission's Report and Order, MM Docket No. 01-56, adopted May 3, 2002, and released May 9, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under West Virginia, is amended by removing DTV channel 54 and adding DTV channel 47 at Huntington.

Federal Communications Commission.
Barbara A. Kreisman,
Chief, Video Division, Media Bureau.

[FR Doc. 02-11978 Filed 5-14-02; 8:45 am]

BILLING CODE 6712-01-P